DEPARTMENT OF STATE

[Public Notice: 11569]

Public Hearing on ISRSB's Report on Managing Water Supply and Flood Control in the Souris River Basin

ACTION: Notice of public hearing.

The International Joint Commission (IJC) is inviting public comment on recommendations made by the International Souris River Study Board (ISRSB) in a report that reviews the 1989 International Agreement between the Government of Canada and the Government of the United States of America for Water Supply and Flood Control in the Souris River Basin (the 1989 Agreement). Comments will be accepted at a public hearing to be held virtually on November 3, 2021, and by mail, email (commission@ijc.org) and online at ijc.org/en/srsb-flood-drought until November 15, 2021. The ISRSB's full report can be found on the Study Board's website at ijc.org/en/srsb.

Public Hearing on ISRSB's Report on Managing Water Supply and Flood Control in the Souris River Basin

Date: November 3, 2021.

Time: 12-1:30 p.m. CDT (11 a.m.-12:30 p.m. MDT, 1:00-2:30 p.m. EDT).

Location: Virtual, register online at ijc.org/en/srsb-flood-drought.

The International Souris River Study Board was established by the IJC in 2017 to assist in responding to a reference by the governments of Canada and the United States under Article IX of the Boundary Waters Treaty of 1909. The reference was precipitated by an unprecedented 2011 flood in the Souris River basin. The basin is part of the Prairie Pothole Region and stretches across Saskatchewan and Manitoba in Canada and extends into North Dakota in the United States.

The governments asked the IJC to coordinate the full completion of the 2013 IJC Plan of Study. As part of this, the IJC was asked to evaluate and make recommendations regarding the Operating Plan contained in Annex A to the 1989 Agreement. Among other items, the agreement coordinates the operation of certain dams and reservoirs in the basin.

IJC recommendations to the two federal governments under Article IX of the Boundary Waters Treaty of 1909 are not binding and not to be considered decisions of the two federal governments.

The Study Board findings and recommendations cover five themes:

• Reviewing the performance of the operating plan in the 1989 Agreement

• Strengthening water supply and flood control benefits

• Improving data collection and management

• Addressing other water management challenges in the basin

• Building on the study's engagement and outreach, including initiating a new approach to engaging with Indigenous peoples in both countries

The public hearing and comment period concern potential recommendations the IJC may make to the Governments of Canada and the United States. The Study Board findings include that the 1989 Agreement is functioning well and is effective at achieving its intended objectives of flood protection and water supply benefits, and they identify marginal or incremental benefits in five alternative measures recommended for further investigation. The recommendations being considered include the following:

1. Modify the Winter Drawdown Elevation Targets to build greater flexibility into reservoir operations by varying reservoir elevation targets according to antecedent moisture conditions in the basin;

2. Extend the Winter Drawdown Date from February 1 to March 1 to provide additional river flow for improved environmental benefits during February;

3. Lower the Spring Maximum Flow Limits to reduce flood peaks and agricultural flood risk during small to moderate floods in riverine reaches in North Dakota (i.e., floods under 57-85 m³/s or 2 000 to 3 000 ft³/s;

4. Establish a Summer Operating Plan to provide more guidance to reservoir operators to better manage summer reservoir operations under all conditions;

5. Shift the Apportionment rule calculations to a Water Year (November to October) from the current Calendar Year (January to December) to ensure flood protection releases in November and December are credited toward apportionment.

The full Study Board report and recommendations can be found by visiting ijc.org/en/srsb.

Commissioners will be present to hear comments on the Study Board's report recommendations at the above referenced virtual public hearing on November 3, 2021. A public comment period on the ISRSB's report will also be open through November 15, 2021. Public input is essential to the Commission's consideration of a recommendation to the governments of the United States and Canada.

The International Joint Commission was established under the Boundary Waters Treaty of 1909 to help the United States and Canada prevent and resolve disputes over the use of the waters the two countries share. The Commission's responsibilities include investigating and reporting on issues of concern when asked by the governments of the two countries. For more information, visit the IJC website at ijc.org.

FOR FURTHER INFORMATION CONTACT: Christina Chiasson (Ottawa) (613) 293-1031 at christina.chiasson@ijc.org or Jeff Kart (Washington, DC) (989) 372-1229 at jeff.kart@ijc.org

Susan E. Daniel,
Acting Secretary, U.S. Section, International Joint Commission, Department of State.

[FR Doc. 2021-23146 Filed 10-22-21; 8:45 am]

BILLING CODE 4710-14-P